DEPARTMENT OF THE INTERIOR

Fish and Wildlife Service

50 CFR Part 26

[Docket No. FWS-HQ-NWRS-2025-0083; FXRS12610900000-256-FF09R00000]

RIN 1018-BI79

Rescission of Regulations Regarding Public Access, Use, and Recreation for Four National Wildlife Refuges

AGENCY: Fish and Wildlife Service, Interior.

ACTION: Direct final rule; request for comments.

SUMMARY: This direct final rule removes certain regulations related to enforcement of various activities on Havasu National Wildlife Refuge, Pond Creek National Wildlife Refuge, St. Vincent National Wildlife Refuge, and Upper Mississippi River National Wildlife and Fish Refuge. Specifically, the rescinded regulations relate to activities such as use of fireworks, damaging vegetation, dogs that disturb wildlife or habitat, use of firearms and other weapons, littering, alcohol use, and boat speed. These regulations are redundant and therefore can be rescinded without adverse impact.

DATES: This final rule is effective on March 16, 2026, without further action, unless significant adverse comments are received by February 17, 2026. If significant adverse comments are received, we will publish a notification in the Federal Register before the effective date either withdrawing the rule or issuing a new final rule that responds to any significant adverse comments.

ADDRESSES: You may submit comments by one of the following methods:

Electronically: Go to the Federal eRulemaking Portal: https://www.regulations.gov. In the Search box, enter FWS-HQ-NWRS-2025-0083, which is the docket number for this rulemaking. Then, click the Search button. In the Search panel on the left side of the screen, under the Document Type heading, click on the box next to Rule to locate this document. You may submit a comment by clicking on “Comment.”

By hard copy: Submit by U.S. mail or hand-delivery to: Public Comments Processing, Attn: FWS-HQ-NWRS-2025-0083, U.S. Fish and Wildlife Service, MS: PRB (JAO/3W); 5275 Leesburg Pike, Falls Church, VA 22041-3803.

FOR FURTHER INFORMATION CONTACT: Cynthia Martinez, Chief, National Wildlife Refuge System, U.S. Fish and Wildlife Service, cynthia_martinez@fws.gov, (202) 208-4889. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The regulations contained in 50 CFR part 26 govern the circumstances under which the public can enter and use a national wildlife refuge. This rule will rescind redundant and therefore unnecessary regulations contained within 50 CFR part 26.34, special regulations concerning public access, use, and recreation for individual national wildlife refuges. The streamlining of these identified regulations will create consistency across National Wildlife Refuges and reduce confusion to the public due to the variance in wording of the regulations in multiple locations. Currently, a member of the public could be fined two different fine amounts for the same offense depending on which regulation is cited for the offense. As provided below, the identified sections will be revised and redesignated by removing redundant sections. The rescinded regulations relate to activities such as use of fireworks, damaging vegetation, dogs that disturb wildlife or habitat, use of firearms and other weapons, littering, alcohol use, and boat speed within Havasu National Wildlife Refuge, Pond Creek National Wildlife Refuge, St. Vincent National Wildlife Refuge, and Upper Mississippi River National Wildlife and Fish Refuge. The removal of these regulations is not anticipated to be controversial because they are redundant. Additionally, these revisions will not inhibit the U.S. Fish and Wildlife Service from successfully fulfilling its statutory mandate to manage these Refuges for the purposes for which they were established or managing each Refuge to fulfill the mission of the National Wildlife Refuge System. Table 1, below, summarizes the regulations to be removed from 50 CFR 26.34.

Table 1—Summary of Deregulation Actions
Regulation for removal | Summary of current regulation | Summary of deregulation action
50 CFR 26.34(b)(2)(iii)(B) (Havasu National Wildlife Refuge, Arizona) | Limits watercraft speed as indicated by signs or regulatory buoys to no wake (as governed by State law) in all backwaters | The Service adopts Arizona State regulations governing boating and the operation and use of boats per 50 CFR 27.32(b)(1)(ii). Enforcement of boating restrictions at Havasu National Wildlife Refuge will continue to follow State regulations. The Service-specific regulation is removed from 50 CFR 26.34 to allow for clarity and consistency with State regulations.
50 CFR 26.34(c)(7)(vi) (Pond Creek National Wildlife Refuge, Arkansas) | Prohibits possession or use of fireworks | The possession or use of fireworks is prohibited on all Service lands per 50 CFR 27.41. The regulation is removed from 50 CFR 26.34 to allow for clarity and consistency with existing regulations.
50 CFR 26.34(h)(7)(ii) (St. Vincent National Wildlife Refuge, Florida) | Prohibits the use or possession of alcoholic beverages during the refuge hunt period | The possession or use of alcoholic beverages while hunting is prohibited on all Service lands per 50 CFR 32.2(j). The regulation is removed from 50 CFR 26.34 to allow for clarity and consistency with existing regulations.
50 CFR 26.34(v)(2)(i)(F) (Upper Mississippi River National Wildlife and Fish Refuge, Minnesota) | Prohibits the cutting, removal, or damage of any tree or vegetation on the refuge as well as attaching nails, screws, or other hardware to any tree | Cutting, removing, or damaging any tree or vegetation is prohibited on all Service lands per 50 CFR 27.51(a). Furthermore, attaching nails, screws, or other hardware to a tree is prohibited on all Service lands per 50 CFR 32.2(i). The regulation is removed from 50 CFR 26.34 to allow for clarity and consistency with existing regulations.
50 CFR 26.34(v)(2)(i)(H)(1) (Upper Mississippi River National Wildlife and Fish Refuge, Minnesota) | Prohibits dogs disturbing or endangering wildlife or people while on the refuge | The disturbing or endangering of wildlife is prohibited on all Service lands per 50 CFR 27.51(a). The regulation is removed from 50 CFR 26.34 to allow for clarity and consistency with existing regulations.
50 CFR 26.34(v)(2)(i)(H)(3) (Upper Mississippi River National Wildlife and Fish Refuge, Minnesota) | Prohibits allowing dogs to roam | Allowing dogs to roam is prohibited on all Service lands per 50 CFR 26.21(b). The regulation is removed from 50 CFR 26.34 to allow for clarity and consistency with existing regulations.
50 CFR 26.34(v)(2)(i)(H)(6) (Upper Mississippi River National Wildlife and Fish Refuge, Minnesota) | Prohibits field trials and commercial/professional dog training | Field trials are prohibited on all Service lands unless a special permit is granted per 50 CFR 27.91 The regulation is removed from 50 CFR 26.34 to allow for clarity and consistency with existing regulations.
50 CFR 26.34(v)(2)(i)(H)(7) (Upper Mississippi River National Wildlife and Fish Refuge, Minnesota) | Owners/handlers of dogs are responsible for disposal of dog droppings | The littering, disposing, or dumping of any debris is prohibited on all Service lands per 50 CFR 27.94(a). The regulation is removed from 50 CFR 26.34 to allow for clarity and consistency with existing regulations.
50 CFR 26.34(v)(2)(i)(I) (Upper Mississippi River National Wildlife and Fish Refuge, Minnesota) | Prohibits the discharging of firearms, air guns, or any other weapons on the refuge, unless engaged in authorized activities during established seasons | The discharge of firearms, air guns, or other weapons is prohibited on all Service lands unless engaged in authorized activities per 50 CFR 27.41 and 50 CFR 27.43. The regulation is removed from 50 CFR 26.34 to allow for clarity and consistency with existing regulations.
50 CFR 26.34(v)(2)(i)(K) (Upper Mississippi River National Wildlife and Fish Refuge, Minnesota) | Prohibits littering, abandonment of property, and disposal of human waste | Littering and the disposal of human waste is prohibited on all Service lands per 50 CFR 27.94(a). Furthermore, the abandonment of property is prohibited on all Service lands per 50 CFR 27.93. The regulation is removed from 50 CFR 26.34 to allow for clarity and consistency with existing regulations.

The Department has determined that these reasons, independently and alone, justify revision of 50 CFR 26.34. The Department has no interest in maintaining regulations that are redundant.

The Department is issuing this rule as a direct final rule. Although the Administrative Procedure Act (APA; 5 U.S.C. 551-559) generally requires agencies to engage in notice and comment rulemaking, section 553 of the APA provides an exception when the agency “for good cause finds” that notice and comment are “impracticable, unnecessary, or contrary to the public interest.” The Department has determined that notice and comment are unnecessary because this rule is noncontroversial; of a minor, technical nature; involves little agency discretion; and is unlikely to receive any significant adverse comments. Significant adverse comments are those that oppose the revision of the rule and raise, alone or in combination, (1) reasons why the revision of the rule is inappropriate, including challenges to the revision's underlying premise; or (2) serious unintended consequences of the revision. A comment recommending an addition to the rule will not be considered significant and adverse unless the comment explains how this direct final rule would be ineffective without the addition.

Required Determinations

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA; 5 U.S.C. 601-612) requires an agency to prepare a regulatory flexibility analysis for all rules unless the agency certifies that the rule will not have a significant economic impact on a substantial number of small entities. The RFA applies only to rules for which an agency is required to first publish a proposed rule. As the Department is not required to publish a notice of proposed rulemaking for this direct final rule, the RFA does not apply.

Congressional Review Act

This direct final rule is not a major rule under the Congressional Review Act, 5 U.S.C. 804(2). Specifically, the direct final rule: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act

This direct final rule does not impose an unfunded mandate on State, local, or Tribal governments, or the private sector, of more than $100 million per year. The rule does not have a significant or unique effect on State, local, or Tribal governments, or the private sector. The rule merely revises the Federal regulations to remove an obsolete provision that is no longer used. Therefore, a statement containing the information required by the Unfunded Mandates Reform Act (2 U.S.C. 1531 et seq.) is not required.

Takings (E.O. 12630)

This direct final rule does not result in a taking of private property or otherwise have regulatory takings implications under E.O. 12630. The rule rescinds a redundant regulatory provision; therefore, the rule will not result in private property being taken for public use without just compensation. A takings implication assessment is therefore not required.

Federalism (E.O. 13132)

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

Civil Justice Reform (E.O. 12988)

In accordance with E.O. 12988, the Office of the Solicitor has determined that this rule will not unduly burden the judicial system and meets the requirements of sections 3(a) and 3(b)(2) of the Order.

Government-to-Government Relationship With Tribes

In accordance with the President's memorandum of April 29, 1994, “Government-to-Government Relations with Native American Tribal Governments” (59 FR 22951), E.O. 13175, and 512 DM 2, we have evaluated potential effects on federally recognized Indian Tribes and have determined that this rule would not interfere with Tribes' abilities to manage themselves, their funds, or Tribal lands.

Paperwork Reduction Act

This direct final rule does not contain any new collection of information that requires approval by the OMB under the Paperwork Reduction Act of 1995 (44 U.S.C. 3501 et seq.). An agency may not conduct or sponsor, and a person is not required to respond to, a collection of information unless it displays a currently valid OMB control number.

National Environmental Policy Act

This direct final rule does not constitute a major Federal action significantly affecting the quality of the human environment. A detailed statement under the National Environmental Policy Act (NEPA; 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

Energy Supply, Distribution or Use (E.O. 13211)

This direct final rule is not a significant energy action as defined in E.O. 13211. Therefore, a Statement of Energy Effects is not required.

List of Subjects in 50 CFR 26

Recreation and recreation areas, Wildlife refuges.

Regulation Promulgation

For the reasons stated in the preamble, we amend part 26, subchapter C of chapter I, title 50 of the Code of Federal Regulations, as set forth below:

PART 26—PUBLIC ENTRY AND USE

1. The authority citation for part 26 continues to read as follows:

Authority: 5 U.S.C. 301; 16 U.S.C. 460k, 664, 668dd-668ee, and 715i; Pub. L. 96-315 (94 Stat. 958) and Pub. L. 98-146 (97 Stat. 955).

Subpart C—Public Use and Recreation

2. Amend § 26.34 by:

a. Revising and republishing paragraphs (b)(2)(iii), (c)(7), and (h)(7);

b. Revising and publish paragraphs (v)(2)(i)(F) through (v)(2)(i)(H); and

c. Removing paragraphs (v)(2)(i)(I) through (v)(2)(i)(K).

The revisions read as follows:

§ 26.34 What are the special regulations concerning public access, use, and recreation for individual national wildlife refuges?

* * * * *

(b) Arizona—

* * * * *

(2) Havasu National Wildlife Refuge.

* * * * *

(iii) The following conditions apply to all waters of the Colorado River within the refuge from the south regulatory buoy line to the north regulatory buoy line at Interstate 40 (approximately 17 miles (27.2 kilometers)):

(A) We prohibit personal watercraft (PWC, as governed by State law) as indicated by signs or regulatory buoys in all backwaters.

(B) We prohibit water-skiing, tubing, wake boarding, or other recreational-towed devices.

* * * * *

(c) Arkansas—

* * * * *

(7) Pond Creek National Wildlife Refuge. (i) We allow camping only at designated primitive campground sites identified in the refuge hunt brochure. We restrict camping to the individuals involved in refuge wildlife-dependent activities. Campers may stay no more than 14 days during any consecutive 30-day period in a campground and must occupy the camps daily. We prohibit all disturbances, including use of generators, after 10 p.m.

(ii) You must unload all hunting firearms and crossbows (see § 27.42(b) of this chapter) within 100 yards (90 meters) of a campground.

(iii) We prohibit camping on the refuge while hunting off the refuge.

(iv) We prohibit consumption or possession of opened container(s) of alcoholic beverage(s) in parking lots, on roadways, and in plain view in campgrounds.

(v) We prohibit fires outside of campgrounds.

(vi) We prohibit geocaching.

* * * * *

(h) Florida—

* * * * *

(7) St. Vincent National Wildlife Refuge.

(i) We restrict camping and fires (see § 27.95(a) of this chapter) to the two designated camping areas. We may restrict or ban fires during dry periods.

(ii) We prohibit motorized equipment, generators, or land vehicles (except bicycles).

(iii) Visitors must observe quiet time in the campground between 9 p.m. and 5 a.m. We prohibit loud or boisterous behavior or activity.

(iv) We allow boats with electric motors. You must remove all other motors from the boats and secure them to a designated motor rack with a lock and chain.

(v) We allow boats in refuge lakes from May 15 through September 30.

* * * * *

(v) Minnesota—

* * * * *

(2) Upper Mississippi River National Wildlife and Fish Refuge—

* * * * *

(F) We prohibit all vehicle use on or across refuge lands at any time except on designated routes of travel or on the ice over navigable waters accessed from boat landings. We prohibit parking beyond vehicle control barriers or on grass or other vegetation. We prohibit parking or operating vehicles in a manner that obstructs or impedes any road, trail, fire lane, boat ramp, access gate, or other facility, or in a manner that creates a safety hazard or endangers any person, property, or environmental feature. We may impound any vehicle left parked in violation at the owner's expense (see § 27.31(h) of this chapter).

(G) We allow dogs and other domestic animals on the refuge subject to the following conditions:

(1) While on the refuge, all dogs must be under the control of their owners/handlers at all times or on a leash.

(2) All dogs must be on a leash when on hiking trails, or other areas so posted.

(3) We allow working a dog in refuge waters by tossing a retrieval dummy or other object for out-and-back exercise.

(4) We prohibit horses and all other domestic animals on the refuge unless confined in a vehicle, boat, trailer, kennel, or other container (see § 26.21 of this chapter).

(H) We prohibit the use or possession of glass food and beverage containers on lands within the refuge.

* * * * *

Kevin Lilly,
Principal Deputy Assistant Secretary for Fish and Wildlife and Parks, Exercising the Delegated Authority of the Assistant Secretary for Fish and Wildlife and Parks.

[FR Doc. 2026-00734 Filed 1-14-26; 8:45 am]

BILLING CODE 4333-15-P